DEPARTMENT OF TRANSPORTATION

Federal Aviation Administration

14 CFR Part 11

[Docket No.: FAA-2015-7396; Amdt. No. 11-58]

RIN 2120-AK82

Registration and Marking Requirements for Small Unmanned Aircraft

AGENCY: Federal Aviation Administration (FAA), DOT.

ACTION: Final rule; OMB approval of information collection.

SUMMARY: This document notifies the public of the Office of Management and Budget's (OMB's) approval of the information collection requirement contained in the FAA's interim final rule, Registration and Marking Requirements for Small Unmanned Aircraft, which was published on December 16, 2015.

DATES: Effective December 21, 2015.

FOR FURTHER INFORMATION CONTACT: Earl Lawrence, Director, FAA UAS Integration Office, 800 Independence Avenue SW., Washington, DC 20591; telephone (202) 267-6556; email UASRegistration@faa.gov.

SUPPLEMENTARY INFORMATION: On December 16, 2015, the Department of Transportation and the Federal Aviation Administration published the interim final rule Registration and Marking Requirements for Small Unmanned Aircraft (80 FR 78593). That rule provided an alternative, streamlined and simple, web-based aircraft registration process for the registration of small unmanned aircraft, including small unmanned aircraft operated as model aircraft, to facilitate compliance with the statutory requirement that all aircraft register prior to operation.

That rule contained an information collection, Registration of Small Unmanned Aircraft. That information collection requirement had not been approved by OMB at the time of publication of the interim final rule.

In accordance with the Paperwork Reduction Act, the FAA submitted a copy of the new information collection requirements to OMB for its review. OMB approved the collection on December 16, 2015, and assigned the information collection OMB Control Number 2120-0765. This final rule provides the control number of that information collection and adds the information collection to the list of FAA's approved information collections in 14 CFR part 11.

List of Subjects in 14 CFR Part 11

Administrative practice and procedure, Reporting and recordkeeping requirements.

The Amendment

In consideration of the foregoing, the Federal Aviation Administration amends chapter I of title 14, Code of Federal Regulations as follows:

PART 11—GENERAL RULEMAKING PROCEDURES

1. The authority citation for part 11 continues to read as follows:

Authority: 49 U.S.C. 106(f), 106(g), 40101, 40103, 40105, 40109, 40113, 44110, 44502, 44701-44702, 44711, and 46102.

2. In § 11.201, amend paragraph (b) by adding an entry for part 48 to read as follows:

§ 11.201 Office of Management and Budget (OMB) control numbers assigned under the Paperwork Reduction Act.

* * * * *

(b) * * *

14 CFR part or section identified and described | Current OMB control No.
* * * * *
Part 48 | 2120-0765
* * * * *

Issued in Washington, DC, under the authority of 49 U.S.C. 106(f), on December 16, 2015.
Lirio Liu,
Director, Office of Rulemaking.

[FR Doc. 2015-31993 Filed 12-18-15; 8:45 am]

BILLING CODE 4910-13-P